DEPARTMENT OF AGRICULTURE

Animal and Plant Health Inspection Service

[Docket No. APHIS-2015-0065]

Notice of Request for Revision to and Extension of Approval of an Information Collection; Location of Irradiation Treatment Facilities in the United States

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the location of irradiation treatment facilities in the United States.

DATES: We will consider all comments that we receive on or before December 8, 2015.

ADDRESSES: You may submit comments by either of the following methods:

• Federal eRulemaking Portal: Go to http://www.regulations.gov/#!docketDetail;D=APHIS-2015-0065.

• Postal Mail/Commercial Delivery: Send your comment to Docket No. APHIS-2015-0065, Regulatory Analysis and Development, PPD, APHIS, Station 3A-03.8, 4700 River Road Unit 118, Riverdale, MD 20737-1238.

Supporting documents and any comments we receive on this docket may be viewed at http://www.regulations.gov/#!docketDetail;D=APHIS-2015-0065 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the location of irradiation treatment facilities in the United States, contact Dr. Inder P.S. Gadh, Senior Risk Manager, RCC, RPM, PHP, PPQ, APHIS, 4700 River Road Unit 156, Riverdale, MD 20737; (301) 851-2141. For copies of more detailed information on the information collection, contact Ms. Kimberly Hardy, APHIS' Information Collection Coordinator, at (301) 851-2727.

SUPPLEMENTARY INFORMATION:

Title: Location of Irradiation Treatment Facilities in the United States.

OMB Control Number: 0579-0383.

Type of Request: Revision to and extension of approval of an information collection.

Abstract: The regulations contained in 7 CFR part 305 (referred to below as the regulations) set out the general requirements for performing treatments and certifying or approving treatment facilities for fruits, vegetables, and other articles to prevent the introduction or dissemination of plant pests or noxious weeds into or through the United States. The Animal and Plant Health Inspection Service (APHIS) of the U.S. Department of Agriculture administers these regulations.

The regulations in § 305.9 set out irradiation treatment requirements for imported regulated articles; regulated articles moved interstate from Hawaii, Puerto Rico, the U.S. Virgin Islands, Guam, and the Commonwealth of the Northern Marianas Islands; and regulated articles moved interstate from areas quarantined for certain pests of concern. Section 305.9 also includes, among other things, additional requirements for irradiation facilities located in the States of Alabama, Arizona, California, Florida, Georgia, Kentucky, Louisiana, Mississippi, Nevada, New Mexico, North Carolina, South Carolina, Tennessee, Texas, and Virginia.

Under control number 0579-0383, the Office of Management and Budget (OMB) has approved information collection activities consisting of a map identifying places where horticultural or other crops are grown within a 4-mile radius of a facility and a contingency plan approved by APHIS that each facility must have and that includes criteria for safely destroying or disposing of regulated articles. These activities are listed in § 305.9. However, when comparing the regulations to this collection, we noticed activities in the regulations that were not previously listed in this collection. As a result, we are adding the following activities to this collection: Request for initial certification and inspection of a facility, certification and recertification of a facility, denial and withdrawal of certification, compliance agreements, irradiation treatment framework equivalency workplan, irradiation facilities notification, recordkeeping, written concurrence, treatment arrangements, pest management plan, and detailed layout of facility.

We are asking OMB to approve our use of this information collection activity, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1.03 hours per response.

Respondents: Irradiation facilities in the United States, State governments, importers, and foreign government and national plant protection organization officials.

Estimated annual number of respondents: 29.

Estimated annual number of responses per respondent: 9.55.

Estimated annual number of responses: 277.

Estimated total annual burden on respondents: 285 hours. (Due to averaging, the total annual burden hours may not equal the product of the annual number of responses multiplied by the reporting burden per response.)

All responses to this notice will be summarized and included in the request for OMB approval. All comments will also become a matter of public record.

Done in Washington, DC, this 5th day of October 2015.
Kevin Shea,
Administrator, Animal and Plant Health Inspection Service.

[FR Doc. 2015-25750 Filed 10-8-15; 8:45 am]

BILLING CODE 3410-34-P